NATIONAL SCIENCE FOUNDATION

Special Emphasis Panel in Biological Infrastructure; Notice of Meeting

In accordance with the Federal Advisory Committee Act (Pub. L. 92-463, as amended), the National Science Foundation announces the following meeting:

Name: Special Emphasis Panel in Biological Infrastructure (1215)

Date/Time: April 10-12, 2001, 8 a.m.-6:30 p.m.

Place: Room 370, NSF, 4201 Wilson Boulevard, Arlington, Virginia.

Type of Meeting: Closed.

Contact Person: Dr. Jane Silverthrone, Program Director and Dr. Chris Cullis, Program Director, Plant Genome Program, Division of Biological Infrastructure, Room 615, NSF, 4201 Wilson Boulevard, Arlington, VA 22230, (703) 292-8470.

Purpose of Meeting: To provide advice and recommendations concerning proposals submitted to the NSF for financial support.

Agenda: To review and evaluate Plant Genome proposals as part of the selection process for awards.

Reason for Closing: The proposals being reviewed include information of a proprietary or confidential nature, including technical information; financial data, such as salaries; and personal information concerning individuals associated with the proposals. These matters are exempt under 5 U.S.C. 552b (c) (4) and (6) of the Government Sunshine Act.

Dated: March 20, 2001.
Susanne Bolton,
Committee Management Officer.

[FR Doc. 01-7296 Filed 3-22-01; 8:45 am]

BILLING CODE 7555-01-M